ENVIROMENTAL PROTECTION AGENCY

[FRL-8441-3]

Clean Air Act Operating Permit Program; Petition to Object to Title V Permit for Reliant Portland Generating Station, Upper Mount Bethel Township, Northampton County, PA

AGENCY: Environmental Protection Agency (EPA).

ACTION: Notice of final order on petition to object to state operating permit.

SUMMARY: Pursuant to section 505(b)(2) of the Clean Air Act (CAA) and 40 CFR 70.8(d), the EPA Administrator signed an order dated June 20, 2007, denying a petition to object to a state operating permit proposed to be issued by the Pennsylvania Department of Environmental Protection (PADEP) to Reliant Energy Mid-Atlantic Power Holdings, LLC for its Portland Generating Station in Northampton County, Pennsylvania. This order constitutes final action on the petition filed by the New Jersey Department of Environmental Protection (NJDEP), dated July 21, 2006, requesting that the Administrator object to the issuance of the proposed title V permit. Pursuant to section 505(b)(2) of the CAA, any person may seek judicial review in the United States Court of Appeals for the appropriate circuit within 60 days of this notice under section 307 of the CAA.

ADDRESSES: Copies of the final order, the petition, and all pertinent information relating thereto are on file at the following location: Environmental Protection Agency, Region III, Air Protection Division (APD), 1650 Arch St., Philadelphia, Pennsylvania 19103. The final order is also available electronically at the following Web site: http://www.epa.gov/region07/programs/artd/air/title5/petitionb/petitiondb.htm.

FOR FURTHER INFORMATION CONTACT: Dave Campbell, Air Protection Division, EPA Region III; telephone (215) 814-2196, or by e-mail at campbell.dave@epa.gov.

SUPPLEMENTARY INFORMATION: The Clean Air Act (CAA) affords EPA a 45-day period to review and object to, as appropriate, operating permits proposed by state permitting authorities. Section 505(b)(2) of the CAA authorizes any person to petition the EPA Administrator within 60 days after the expiration of this review period to object to a state operating permit if EPA has not done so. Petitions must be based only on objections raised with reasonable specificity during the public comment period, unless the petitioner demonstrates that it was impracticable to raise these issues during the comment period or that the grounds for objection or other issue arose after the comment period.

EPA received a petition from the New Jersey Department of Environmental Protection (NJDEP), dated July 21, 2006, requesting that EPA object to the issuance of the proposed title V permit for the Reliant Portland Generating Station because, (1) the plant was modified in violation of the Prevention of Significant Deterioration (PSD) requirements of the Clean Air Act but had not installed the Best Available Control Technology (BACT); (2) modifications increased the hourly emission rate at the plant, triggering unnamed New Source Performance Standards (NSPS); and (3) the permit must contain maximum hourly heat input limits for the boilers in order to prevent NAAQS exceedances, avoid triggering NSPS, and to assure compliance with limits derived from the Pennsylvania State Implementation Plan (SIP). The order explains the reasons behind EPA's decision to deny NJDEP's petition for objection on all grounds.

Dated: July 9, 2007.
Donald S. Welsh,
Regional Administrator, Region III.

[FR Doc. E7-13896 Filed 7-17-07; 8:45 am]

BILLING CODE 6560-50-P